NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 10, 2007 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of Agriculture, Rural Development (N1-572-06-1, 3 items, 3 temporary items). Inputs, outputs, and documentation relating to an electronic system that manages and oversees loans, grants, and rental subsidies for a multi-family housing program for the low-income, elderly, or disabled rural population.

2. Department of the Army, Agency-wide (N1-AU-07-11, 1 item, 1 temporary item). Records relating to training media files accumulated at divisions, installations, and lower level echelon activities. Included are training schedules, programs, lesson plans, memorandums, directives, and similar information. This schedule authorizes the agency to apply the proposed disposition instructions to any recordkeeping medium.

3. Department of the Army, Agency-wide (N1-AU-07-12, 3 items, 3 temporary items). Records relating to Army storage and supply activity operations. Included are supply item references and warehouse and open storage space planning files to include control sheets, location sheets, layout plans, diagrams, and cross reference aids. This schedule authorizes the agency to apply the proposed disposition instructions to any recordkeeping medium.

4. Department of the Army, Agency-wide (N1-AU-07-13, 2 items, 2 temporary items). Records relating to Corps of Engineers Civil Works projects evaluations and reviews. Included are summaries of board actions, statements of decisions, monthly status reports on preliminary examinations, survey reports, and work plans. This schedule authorizes the agency to apply the proposed disposition instructions to any recordkeeping medium.

5. Department of Defense, Defense Information Systems Agency (N1-371-02-7, 24 items, 20 temporary items). Records accumulated by the Ada Joint Programming Office related to the development of Ada, DOD's first embedded computer programming language. Included are agency reports, software development files, educational and training materials, and correspondence related to the language's development. Proposed for permanent retention are standardization/language control files, agency publications and reports, and memoranda of agreements and understanding with foreign governments.

6. Department of Defense, Defense Security Service (N1-446-06-1, 6 items, 5 temporary items). Security training and education records relating to program management, registration requirements, and copies of curriculum development master copies. Included are correspondence files; requirement reviews; evaluation reports; financial transaction records; memoranda agreements; and records relating to a participant's profile, including enrollment, training, course, and special access histories. Proposed for permanent retention are master copies of course content, including curriculum requirements, presentations, and examinations.

7. Department of Defense, Joint Staff (N1-218-06-1, 4 items, 4 temporary items). Records tracking and controlling top secret classified documents. Included are such records as receipts, unclassified electronic data, reports and annual snapshots.

8. Department of Homeland Security, U.S. Coast Guard (N1-26-07-1, 1 item, 1 temporary item). Case files accumulated by coordinators within the Family Support Program who counsel Coast Guard members and their families. This schedule authorizes the agency to apply the proposed disposition instructions to any recordkeeping medium.

9. Department of Homeland Security, U S. Coast Guard (N1-26-07-2, 4 items, 4 temporary items). Records maintained by Office of Boat Forces relating to equipment maintenance procedures and personal protective clothing issued to and returned by members.

10. Department of Housing and Urban Development, Agency-wide (N1-207-06-5, 15 items, 6 temporary items). Routine still photographs and video recordings and associated finding aids in analog or digital format. Proposed for permanent retention are digital and analog photographs and video recordings of core mission related activities and principal figures of the Department and associated finding aids.

11. Environmental Protection Agency, (N1-412-07-4, 3 items, 3 temporary items). This schedule authorizes the agency to apply the existing disposition instructions to several record series regardless of recordkeeping medium. The records include National Contingency Plan product files, spill prevention control and countermeasure facility plans, and oil removal contingency plans. Paper recordkeeping copies of these files were previously approved for disposal.

12. Environmental Protection Agency, Agency-wide (N1-412-07-6, 2 items, 1 temporary item). This schedule authorizes the agency to apply the existing disposition instructions to record series regardless of recordkeeping medium. The records include Resource Conservation and Recovery Act permit files for hazardous waste generators, transporters and treatment, storage and disposal facilities, as well as facilities that comply with regulations without following the usual permitting process. Paper recordkeeping copies of these files were previously approved for disposal. Also included are Resource Conservation and Recovery Act hazardous waste land disposal permit files, for which paper recordkeeping copies previously were approved as permanent.

Dated: April 4, 2007.
Michael J. Kurtz,
Assistant Archivist for Records Services—Washington, DC.

[FR Doc. E7-6697 Filed 4-9-07; 8:45 am]

BILLING CODE 7515-01-P